OFFICE OF THE UNITED STATES TRADE REPRESENTATIVE

Generalized System of Preferences (GSP): Notice Regarding the 2010 Annual Product Review: Acceptance of Product Petitions

AGENCY: Office of the United States Trade Representative.

ACTION: Notice.

SUMMARY: The Office of the United States Trade Representative (USTR) received petitions in connection with the 2010 GSP Annual Review to modify the list of products that are eligible for duty-free treatment under the GSP program (“2010 GSP Annual Product Review”). This notice announces the petitions accepted for review and sets the date of the public hearing and schedule for submitting comments on the petitions, requests to participate in the public hearing, pre-hearing and post-hearing briefs, and comments on the U.S. International Trade Commission's (USITC) report on probable economic effects. The petitions accepted for review are listed below. More information on these petitions can be found at: http://www.ustr.gov/node/6058 and at http://www.regulations.gov, Docket Number USTR-2010-0017.

FOR FURTHER INFORMATION CONTACT: Tameka Cooper, GSP Program, Office of the United States Trade Representative, 600 17th Street, NW., Washington, DC 20508. The telephone number is (202) 395-6971, the fax number is (202) 395-9674, and the e-mail address is Tameka_Cooper@ustr.eop.gov.

DATES: The GSP regulations (15 CFR Part 2007) provide the schedule of dates for conducting an annual review unless otherwise specified in a notice published in the Federal Register. The schedule for the 2010 GSP Annual Product Review is set forth below. Notice of any other changes will be published in the Federal Register.

November 18, 2010—Due date for submission of pre-hearing briefs and requests to appear at the GSP Subcommittee Public Hearing on all product petitions accepted for the 2010 GSP Annual Product Review.

November 30, 2010—GSP Subcommittee Public Hearing on all product petitions accepted for the 2010 GSP Annual Product Review, to be held in Rooms 1 and 2, 1724 F St., NW., Washington, DC 20508, beginning at 9:30 a.m.

December 13, 2010—Due date for submission of product petition post-hearing briefs.

February 2011—The USITC is scheduled to issue a confidential report to USTR providing advice on the potential impacts on U.S. industry and consumers based on the product petitions accepted in the 2010 GSP Annual Product Review. USTR has directed USITC to then publish a public version of that report as soon as possible. Comments on that public version are due 10 calendar days after the date of USITC's publication of that version.

June 30, 2011—Modifications to the list of articles eligible for duty-free treatment under the GSP resulting from the 2010 Annual Review will be announced on or about June 30, 2011, in the Federal Register, and any changes will take effect on the effective date announced. Notification of any changes to this date will be published in the Federal Register.

SUPPLEMENTARY INFORMATION: The GSP program provides for the duty-free importation of designated articles when imported from designated beneficiary developing countries. The GSP program is authorized by Title V of the Trade Act of 1974 (19 U.S.C. 2461, et seq.), as amended (the “1974 Act”), and is implemented in accordance with Executive Order 11888 of November 24, 1975, as modified by subsequent Executive Orders and Presidential Proclamations.

Petitions Requesting Modifications of Product Eligibility

In a notice published in the Federal Register on July 15, 2010 (75 FR 41274), USTR announced that the deadline for the filing of product petitions, other than those requesting waivers of “competitive need limitations” (CNLs), for the 2010 GSP Annual Review was August 3, 2010. The deadline for the filing of product petitions requesting waivers of the CNLs was announced to be November 16, 2010.

The product petitions that were received in response to this notice requested modifications to the list of GSP-eligible products by adding new products for eligibility from all GSP beneficiaries, or by removing products from eligibility when imported from all or from specific GSP-eligible countries. The interagency GSP Subcommittee of the Trade Policy Staff Committee (TPSC) has reviewed the product petitions, and the TPSC has decided to accept for review the following product petitions:

(1) A petition submitted by Exxel Outdoors, Inc., of Haleyville, Alabama for withdrawal from GSP eligibility of certain types of sleeping bags (9404.30.80 of the Harmonized Tariff Schedule of the United States (HTS)); and

(2) A petition submitted by the Pressure Sensitive Tape Council of Naperville, Illinois, and others, for withdrawal from GSP eligibility, from Indonesia only, of two types of self-adhesive plastic tape (HTS 3919.10.20 and 3919.10.50).

More information on these two petitions can be found in “List of Petitions Accepted in the 2010 GSP Annual Product Review” posted on the USTR Web site (http://www.ustr.gov/node/6058) and available on Regulations.gov docket number USTR-2010-0017. That list sets forth, for each type of change requested: the case number, the HTS subheading number(s), a brief description of the product (see the HTS available on the U.S. International Trade Commission Web site http://www.usitc.gov/tata/hts/ for an authoritative description), and the petitioner for each petition included in this review. Acceptance of a petition for review does not indicate any opinion with respect to the disposition on the merits of the petition. Acceptance indicates only that the listed petitions have been found eligible for review by the TPSC and that such review will take place.

The GSP Subcommittee of the TPSC invites interested persons to testify at the public hearing, based on receipt of requests to testify, and comments in support of or in opposition to any petition which has been accepted for the 2010 GSP Annual Product Review. Submissions should comply with 15 CFR part 2007, except as modified below. All submissions should identify the subject article(s) in terms of the case number and eight-digit HTS subheading number, if applicable, as shown in the “List of Petitions Accepted in the 2010 GSP Product Annual Review” referenced above.

Requirements for Submissions

Submissions in response to this notice (including requests to testify, written comments, and pre-hearing briefs) must be submitted electronically by 5 p.m., Thursday, November 18, 2010, or by 5 p.m., Monday, December 13, 2010 (post-hearing briefs and statements only) using http://www.regulations.gov, docket number USTR-2010-0017. Instructions for submitting business confidential versions are provided below. Hand-delivered submissions will not be accepted. Submissions must be submitted in the English language to the Chairman of the GSP Subcommittee, Trade Policy Staff Committee, by the applicable deadlines set forth in this notice.

To make a submission using http://www.regulations.gov, enter docket number USTR-2010-0017 on the home page in the “Enter keyword or ID” field on the right side of the screen. The site will provide a search-results page listing all documents associated with this docket. Locate the reference to this notice by selecting “Notices” under “Document Type”. In the results table below, click on the “Send a Comment” balloon that corresponds to this notice. Follow the instructions given on the screen to submit the comment. The http://www.regulations.gov website offers the option of providing comments by filling in a “Type Comment” field or by attaching a document. While both options are acceptable, USTR prefers submissions in the form of an attachment.

Comments must be in the English language, with the total submission not to exceed 30 single-spaced, standard letter-size pages in 12-point type, including attachments. Any data attachments to the submission should be included in the same file as the submission itself, and not as separate files.

Any person or party making a submission is strongly advised to review the GSP regulations and GSP Guidebook (both of which are available at: http://www.ustr.gov/trade-topics/trade-development/preference-programs/generalized-system-preference-gsp/gsp-program-inf)

Business Confidential Submissions

A person requesting that information contained in a comment submitted by that person be treated as confidential business information must certify that such information is business confidential and would not customarily be released to the public by the submitter. Confidential business information must be clearly designated as such, the submission must be marked “BUSINESS CONFIDENTIAL” at the top and bottom of the cover page and each succeeding page, and the submission should indicate, via brackets, the specific information that is confidential. Additionally, “Business Confidential” must be included in the “Type Comment & Upload File” field. Submit your Business Confidential version as a separate document from the public version. Anyone submitting a comment containing business confidential information must also submit as a separate submission a non-confidential version of the confidential submission, indicating where confidential information has been redacted. The non-confidential version will be placed in the docket and open to public inspection.

Notice of Public Hearing

A hearing will be held by the GSP Subcommittee of the TPSC on Tuesday, November 30, 2010, for product petitions accepted for the 2010 GSP Annual Review (i.e., for product petitions other than those requesting CNL waivers) beginning at 9:30 a.m. at the Office of the U.S. Trade Representative, Rooms 1 and 2, 1724 F St., NW., Washington, DC 20508. The hearing will be open to the public, and a transcript of the hearing will be made available for public inspection or can be purchased from the reporting company. No electronic media coverage will be allowed.

All interested parties wishing to make an oral presentation at the hearing must submit, consistent with the “Requirements for Submissions” set out above, the name, address, telephone number, facsimile number, and e-mail address (if available), of the witness(es) representing their organization to William Jackson, Chair of the GSP Subcommittee, by 5 p.m., Thursday, November 18, 2010. Requests to present oral testimony in connection with the public hearing must be accompanied by a written brief or statement, in the English language, and also must be received by 5 p.m., Thursday, November 18, 2010. Oral testimony before the GSP Subcommittee will be limited to five-minute presentations that summarize or supplement information contained in briefs or statements submitted for the record. Post-hearing briefs or statements will be accepted if they conform with the regulations cited above and are submitted, in the English language, by 5 p.m., Monday, December 13, 2010, consistent with the “Requirements for Submissions” set out above. Parties not wishing to appear at the public hearing may submit pre-hearing briefs or statements, in the English language, by 5 p.m., November 18, 2010, and post-hearing written briefs or statements, in the English language, by 5 p.m., December 13, 2010, also in accordance with the “Requirements for Submissions” set out above.

Receipt of Advice From the USITC

With respect to the petitions for removal included in the “List of Product Petitions Accepted in the 2010 GSP Annual Review,” and in accordance with authority delegated to the U.S. Trade Representative by the President, the U.S. Trade Representative has requested, pursuant to section 332(g) of the Tariff Act of 1930, that the USITC provide its advice on the probable economic effect of such removals on U.S. industries producing like or directly competitive articles and on total U.S. imports and U.S. consumers. Comments by interested persons on the USITC Report prepared as part of the product review (other than those requesting CNL waivers) should be submitted to USTR by 5 p.m., 10 calendar days after the date of USITC publication of the public version of its report.

William D. Jackson,
Deputy Assistant U.S. Trade Representative for the Generalized System of Preferences, Office of the U.S. Trade Representative.

[FR Doc. 2010-27093 Filed 10-25-10; 8:45 am]

BILLING CODE 3190-W1-P